DELAWARE RIVER BASIN COMMISSION

Notice of Revised Methodology for the Delaware River and Bay Integrated List Water Quality Assessment

AGENCY: Delaware River Basin Commission.

ACTION: Notice.

SUMMARY: Notice is hereby given that the methodology proposed to be used in the 2010 Delaware River and Bay Integrated List Water Quality Assessment is available for review and comment. The proposed methodology is a substantially modified version of the methodology used for the 2008 assessment.

DATES: Comments must be received in writing by close of business on August 14, 2009.

ADDRESSES: Comments will be accepted via e-mail to john.yagecic@drbc.state.nj.us; via fax to 609-883-9522; by U.S. Mail to DRBC, Attn: Integrated Assessment 2010, P.O. Box 7360, West Trenton, NJ 08628-0360; via private carrier to DRBC, Attn: Integrated Assessment 2010, 25 State Police Drive, West Trenton, NJ 08628-0360; or by hand. All submissions should have the phrase “Integrated Assessment 2010” in the subject line and should include the name, address (street address optional) and affiliation, if any, of the commenter.

FOR FURTHER INFORMATION CONTACT: Mr. John Yagecic, Supervisor, Standards and Assessment Section, DRBC Modeling, Monitoring and Assessment Branch, via e-mail to john.yagecic@drbc.state.nj.us or by telephone to 609-883-9500, ext. 271.

SUPPLEMENTARY INFORMATION: The Delaware River Basin Commission (“DRBC” or “Commission”) is an interstate and Federal compact agency that was created in 1961 by concurrent legislation of the States of Delaware, New Jersey, and New York, the Commonwealth of Pennsylvania and the United States Government for purpose of jointly managing the water resources of the Delaware River Basin.

DRBC currently is compiling data for the 2010 Delaware River and Bay Integrated List Water Quality Assessment (“2010 Assessment”) required by the federal Clean Water Act (CWA). The 2010 Assessment will present the extent to which waters of the Delaware River and Bay are attaining designated uses in accordance with Section 305(b) of the CWA and will identify impaired waters, which consist of waters that exceed surface water quality standards.

Substantial changes from the 2008 methodology have been proposed, including the consideration of biological monitoring results in the assessment process. The assessment methodology to be used in the 2010 Assessment is available for review at the following URL: http://www.state.nj.us/drbc/10IntegratedList-DraftMethod.htm.

In the 2008 Assessment DRBC proposes to reduce the number of assessment units from the number used in 2006 by consolidating the units into DRBC's Water Quality Management Zones 1A, 1B, 1C, 1D, 1E, 2, 3, 4, and 5, the boundaries of which are defined in DRBC's Water Quality Regulations (18 CFR Part 410), available on the Web at http://www.state.nj.us/drbc/regs/WQRegs_092607.pdf. The 2008 Assessment will continue, however, to include subunits within Zone 6 that are defined in part by shellfish management directives issued by the States of Delaware and New Jersey. The 2010 Assessment will continue this process and also will include consideration of biological monitoring results.

June 17, 2009.
Pamela M. Bush,
Commission Secretary.

[FR Doc. E9-14749 Filed 6-23-09; 8:45 am]

BILLING CODE 6360-01-P